DEPARTMENT OF HOUSING AND URBAN DEVELOPMENT

[Docket No. FR 5928-N-03]

Notice of Continuation of Demonstration To Test Proposed New Method of Assessing the Physical Conditions of Voucher-Assisted Housing

AGENCY: Office of the Assistant Secretary for Public and Indian Housing, Department of Housing and Urban Development (HUD).

ACTION: Demonstration continuation.

SUMMARY: Through this notice, HUD announces the continuation of HUD's demonstration to test the new method of assessing the physical condition of housing assisted by HUD vouchers (voucher-assisted housing) through October 1, 2022 and renews its call for additional Public Housing Authority (PHA) volunteers (eligible PHAs administering the Housing Choice Voucher (HCV) program). This continuation supports HUD's ability to align the HCV program with the National Standards for the Physical Inspection of Real Estate (NSPIRE) physical inspection model and to assess the HCV program's inspection protocol against this model. In addition, this notice updates the relevant participation provisions and selection criteria.

DATES: Applicable date July 4, 2021.

FOR FURTHER INFORMATION CONTACT: Kevin Laviano, Assessment Manager, Office of Public and Indian Housing, Department of Housing and Urban Development, 550 12th Street SW, Suite 100, Washington, DC 20410-4000, telephone number 216-659-2193 (this is not a toll-free number) or via email to NSPIREV@hud.gov. Persons with hearing or speech impairments may contact the numbers above via TTY by calling the Federal Relay Service at 800-877-8339 (this is a toll-free number).

SUPPLEMENTARY INFORMATION: On May 4, 2016, HUD published a notice implementing the “Demonstration To Test Proposed New Method of Assessing the Physical Conditions of Voucher-Assisted Housing.” ¹ On May 28, 2019, HUD extended the demonstration for two years.² HUD has again decided to continue the demonstration to assess the improvements and alignment of the HCV inspection protocol. This continuation furthers the direction contained in the Joint Explanatory Statement accompanying the Consolidated Appropriations Act of 2016, Public Law 114-113, approved December 18, 2015, and the proposals set forth in the Economic Growth and Recovery, Regulatory Relief, and Consumer Protection Act of 2018, Public Law 115-174,³ and the direction the Department has proposed in the Economic Growth, Regulatory Relief, and Consumer Protection Act: Implementation of National Standards for the Physical Inspection of Real Estate proposed rule.⁴ HUD seeks to continue this demonstration to further evaluate the application of NSPIRE standards on the HCV inspection program. In addition, the program-specific requirements in the respective sections of the above-mentioned demonstration notices continue to apply, other than, those specific references to HUD's testing of the Uniform Physical Condition Standards for Vouchers (UPCS-V) related inspection protocols.⁵

¹ Notice of Demonstration to Test Proposed New Method of Assessing the Physical Conditions of Voucher-Assisted Housing, 81 FR 26759 (May 4, 2016) https://www.federalregister.gov/documents/2016/05/04/2016-10460/notice-of-demonstration-to-test-proposed-new-method-of-assessing-the-physical-conditions-of.

² Notice of Continuation of Demonstration to Test Proposed New Method of Assessing the Physical Conditions of Voucher-Assisted Housing, 84 FR 24416 (May 28, 2019) https://www.federalregister.gov/documents/2019/05/28/2019-11059/notice-of-continuation-of-demonstration-to-test-proposed-new-method-of-assessing-the-physical.

³ The text of the Economic Growth Act, along with a summary prepared by the Congressional Research Service, can be found at https://www.congress.gov/bill/115th-congress/senate-bill/2155/text.

⁴ See Economic Growth Regulatory Relief and Consumer Protection Act: Implementation of National Standards for the Physical Inspection of Real Estate (NSPIRE), 86 FR 2582 (January 13, 2021) https://www.federalregister.gov/documents/2021/01/13/2021-00098/economic-growth-regulatory-relief-and-consumer-protection-act-implementation-of-national-standards.

⁵ See Notice of Demonstration to Test Proposed New Method of Assessing the Physical Conditions of Voucher-Assisted Housing, para. III.C and Notice of Continuation of Demonstration To Test Proposed New Method of Assessing the Physical Conditions of Voucher-Assisted Housing and Notice of Demonstration To Assess the National Standards for the Physical Inspection of Real Estate and Associated Protocols, paras. III.A, III.B, III.C, III.D, and IV.

Furthermore, HUD is lifting the three-year limitation to PHA participation contained in Section III, Part C., of the Notice of Demonstration To Test Proposed New Method of Assessing the Physical Conditions of Voucher-Assisted Housing.⁶ Accordingly, current PHA volunteers may continue to participate beyond the previous three-year limitation and for the duration of the demonstration. HUD, therefore, extends this demonstration through October 1, 2022. HUD may amend the demonstration dates in response to changes in programmatic and environmental conditions through subsequent Federal Register notices.

⁶ 81 FR 26759.

HUD is also seeking additional volunteers for the demonstration. Interested PHAs should email HUD at NSPIREV@hud.gov and provide the PHA name, PHA address, point of contact, phone number, and email address.

Dominque Blom,
General Deputy Assistant Secretary for Public and Indian Housing.

[FR Doc. 2021-11926 Filed 6-7-21; 8:45 am]

BILLING CODE 4210-67-P